FEDERAL TRADE COMMISSION

Granting of Request for Early Termination of the Waiting Period Under the Premerger Notification Rules

Section 7A of the Clayton Act, 15 U.S.C. 18a, as added by Title II of the hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—09/17/2001
20012347 | Johnson & Johnson | Zeltia, S.A | PharmaMar, S.A
20012392 | The News Corporation Limited | The News Corporation Limited | Speedvision Network, LLC and Cable Network Services, LLC.
Transactions Granted Early Termination—09/18/2001
20012322 | CommScope, Inc | Lucent Technologies, Inc | Lucent Technologies Optical Fiber Solutions Inc.
|  |  | Lucent Technologies/Sviastroy-1Fiber Optic Cable Company.
20012323 | Lucent Technologies, Inc | CommScope, Inc | CommScope, Inc
20012361 | Anthem Insurance Companies, Inc | Blue Cross and Blue Shield of Kansas, Inc | Blue Cross and Blue Shield of Kansas, Inc.
20012369 | Legg Mason, Inc | Charles M. Royce | Royce & Associates, Inc.
20012386 | Edward C. Ritz | Charles R. Wolf | Fox Photo, Inc., a Delaware corporation.
|  |  | Wolf Camera Inc., a Georgia corporation.
|  |  | Wolf Express.Com, LLC, a Georgia limited liability company.
20012395 | Roadway Corporation | Arnold Industries, Inc | Arnold Industries, Inc.
20012397 | Solectron Corporation | Iphotonics, Inc | Iphotonics, Inc.
20012403 | Carso Global Telecom, S.A. de C.V | Grupo Carso, S.A. de C.V | The Telvista Company.
20012408 | E*TRADE Group, Inc | Dempsey & Company LLC | Dempsey & Company LLC.
20012410 | KKR 1996 Fund L.P | PRIMEDIA Inc | PRIMEDIA Inc.
20012413 | Warburg Pincus Private Equity VIII, L.P | Triangle Pharmaceuticals, Inc | Triangle Pharmaceuticals, Inc.
20012417 | J.D. Edwards & Company | YOUcentric, Inc | YOUcentric, Inc
20012421 | Glencoe Capital Partners II, L.P | ProQuest Company | Bell & Howell Company, A Delaware Corporation.
|  |  | Bell & Howell Company, Nevada Corp.
|  |  | Bell & Howell Financial Services Co.
|  |  | Bell & Howell Mail and Messaging Tech Company.
|  |  | Bell & Howell Mailmobile Co., Bell & Howell Postal System In.
Transactions Granted Early Termination—09/19/2001
20012001 | Polycom, Inc | Pictures Tel Corporation | Pictures Tel Corporation.
20012337 | Heartland Industrial Partners, L.P | Textron Inc | Permali do Brasil Industria e Comercio Ltda.
|  |  | Textron Automotive B.V.
|  |  | Textron Automotive Belgium B.V.B.A.
|  |  | Textron Automotive Exteriors, Inc.
|  |  | Textron Automotive Holdings Italy S.r.l
|  |  | Textron Automotive Interiors Inc.
|  |  | Textron Automotive MIP Limited.
|  |  | Textron Canada Limited.
|  |  | Textron Properties Inc.
|  |  | Textron S.A. de C.V.
20012338 | Textron Inc | Heartland Industrial Partners, L.P | Collins & Aikman Corporation.
20012396 | Eli Lilly and Company | Jeanne-Marie Lecomte | Bioproject, Societe Civile de Recherche.
20012422 | TEPPCO Partners, L.P | Alberta Energy Company Ltd | Jonah Gas Gathering Companpy.
Transactions Granted Early Termination—09/21/2001
20011675 | Foster Poultry Farms, Inc | Zacky farms | Zacky Farms.
20012370 | Sony Corporation | Sony Ericsson Joint Venture Company | Sony Ericsson Joint Venture Company.
20012373 | Telefonakiebolaget LM Ericsson | Sony Ericsson Joint Venture Company | Sony Ericsson Joint Venture Company.
20012398 | VINCI S.A | TBI plc | TBI plc.
20012390 | VINCI S.A | Castle Harlan Partners III, L.P | TBI plc.
|  |  | WFS Holdings, Inc.
20012412 | United Grain Growers Limited | Agricore Cooperative Ltd | Agricore Corporation
Transactions Granted Early Termination—09/24/2001
20012318 | Furukawa Electric Co., Ltd | Lucent Technologies Inc | Lucent Denmark I/S.
|  |  | Lucent Technologies Denmark Holdings ApS.
|  |  | Lucent Technologies Inc.
|  |  | Lucent Technologies Lycom ApS.
|  |  | Lucent Technologies Optical Fiber Solutions Inc.
|  |  | Lucent Technologies Optical Speciality Fibers Inc.
|  |  | Lucent Technologies Yazaki Ltd.
|  |  | Lucent Technologies/Sviazstroy-1 Fiber Optic Cable Company J.
20012378 | Sumner M. Redstone | K. Rupert Murdoch | Fox Television Stations, Inc.
20012379 | K. Rupert Murdoch | Sumner M. Redstone | Paramount Stations Group of Washington Inc.
20012381 | Devon Energy Corporation | Mitchell Energy & Development Corp | Mitchell Energy & Development Corp
20012382 | George P. & Cynthia W. Mitchell | Devon Energy Corporation | Devon Energy Corporation.
20012433 | Devon Energy Corporation | Anderson Exploration Ltd | Anderson Exploration Ltd.
Transactions Granted Early Termination—09/26/2001
20012358 | Nextel Communications | Pacific Wireless Technologies, Inc | Pacific Wireless Technologies, Inc.
20012409 | Southwire Company | General Cable Corporation | General Cable Industries, Inc.
20012428 | Genesis Health Ventures, Inc | Genesis ElderCare Corp | Genesis ElderCare Corp.
Transactions Granted Early Termination—09/27/2001
20012363 | Tollgrade Communications, Inc | Lucent Technologies Inc | Lucent Technologies Inc.
20012375 | Nippon Suisan Kaisha, Ltd | Unilever N.V | Conopco, Inc., U L Canada, Inc.
20012401 | Newell Rubbermaid Inc | Albert Cheris | Tenex Corporation.
20012425 | eFunds Corp | ATM Holding, Inc | Access Cash International LLC.
20012426 | Morgan Stanley Dean Witter Capital Partners IV, L.P | Triad Hospitals, Inc | Triad of Arizona L.P., Inc.
20012430 | Santa Fe International Corporation | Global Marine Inc | Global Marine Inc.
20012434 | Reed International P.L.C | CourtLink Corporation | CourtLink Corporation.
20012435 | Elsevier NV | CourtLink Corporation | Courtlink Corporation.
20012436 | Solectron Corporation | C-Mac Industries Inc | C-Mac Industries Inc.
Transactions Granted Early Termination—09/28/2001
20012388 | Fortis (NL) N.V | Protective Life Corporation | Protective Life Insurance Company.
20012420 | Limestone Electron Trust | Dean Vanech | Delta Power Company, LLC
|  |  | Ponderosa Pine Energy Partners, Ltd.
20012424 | e-MedSoft.com | W. Andrew Wright | Addus Healthcare, Inc.
20012429 | The Goldman Sachs Group, Inc | Genesis Health Ventures, Inc | Genesis Health Ventures, Inc
20012453 | Flextronics International Ltd | Instrumentation Engineering, Inc | Instrumentation Engineering, Inc
20012455 | CCG Investments (BVI), L.P | MERANT plc | MERANT plc.

FOR FURTHER INFORMATION CONTACT: Sandra M. Peay, or Parcellena P. Fielding, Contact Representatives; Federal Trade Commission, Premerger Notification Office, Bureau of Competition, Room 303, Washington, DC 20580, (202) 326-3100.

By Direction of the Commission.
Donald S. Clark,
Secretary.

[FR Doc. 01-25983 Filed 10-15-01; 8:45 am]

BILLING CODE 6750-01-M